DEPARTMENT OF TRANSPORTATION

National Highway Traffic Safety Administration

[Docket No. NHTSA-2005-22971; Notice 1]

Weekend Warrior Trailers, Inc., Receipt of Petition for Decision of Inconsequential Noncompliance

Weekend Warrior Trailers, Inc. (Weekend Warrior) has determined that certain ramp-equipped travel trailers that it produced in 2001 through 2005 do not comply with 49 CFR 571.108, Federal Motor Vehicle Safety Standard (FMVSS) No. 108, “Lamps, reflective devices, and associated equipment.” Weekend Warrior has filed an appropriate report pursuant to 49 CFR part 573, “Defect and Noncompliance Reports.”

Pursuant to 49 U.S.C. 30118(d) and 30120(h), Weekend Warrior has petitioned for an exemption from the notification and remedy requirements of 49 U.S.C. Chapter 301 on the basis that this noncompliance is inconsequential to motor vehicle safety.

This notice of receipt of Weekend Warrior's petition is published under 49 U.S.C. 30118 and 30120 and does not represent any agency decision or other exercise of judgment concerning the merits of the petition.

Affected are a total of approximately 13,447 ramp-equipped travel trailers produced between January 2001 and September 2005. FMVSS No. 108 requires that these vehicles be equipped with amber intermediate side marker lamps and reflex reflectors, and red identification lamps. However, the subject vehicles are not equipped with these devices.

Weekend Warrior believes that the noncompliance is inconsequential to motor vehicle safety and that no corrective action is warranted. Weekend Warrior states that the noncompliance has caused no safety related accidents or injuries, and that it has received no customer complaints or notification of injuries or deaths related to the absence of the required items.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 0590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: December 23, 2005.

Authority: 49 U.S.C. 30118, 30120: delegations of authority at CFR 1.50 and 501.8.

Issued on: November 17, 2005.
Daniel C. Smith,
Associate Administrator for Enforcement.

[FR Doc. 05-23136 Filed 11-22-05; 8:45 am]

BILLING CODE 4910-59-P